DEPARTMENT OF THE INTERIOR

Bureau of Land Management

[WY-920-1320-EL]

Powder River Regional Coal Team Activities: Notice of Public Meeting in Casper, WY

AGENCY: Bureau of Land Management, Interior.

ACTION: Notice of Public Meeting.

SUMMARY: The Powder River Regional Coal Team (RCT) has scheduled a public meeting for April 19, 2006, to review current and proposed activities in the Powder River Coal Region and to review pending coal lease applications (LBA).

DATES: The RCT meeting will begin at 9 a.m. MDT on April 19, 2006. The meeting is open to the public.

ADDRESSES: The meeting will be held at the Wyoming Oil and Gas Conservation Commission, 2211 King Boulevard, Casper, Wyoming.

FOR FURTHER INFORMATION CONTACT: Robert Janssen, Regional Coal Coordinator, BLM Wyoming State Office, Division of Minerals and Lands, 5353 Yellowstone Road, Cheyenne, Wyoming 82009: telephone 307-775-6206 or Rebecca Spurgin, Regional Coal Coordinator, BLM Montana State Office, Division of Resources, 5001 Southgate Drive, Billings, Montana 59101: telephone 406-896-5080.

SUPPLEMENTARY INFORMATION: The purpose of the meeting is to discuss pending coal lease by applications (LBAs) in the Powder River Basin as well as other federal coal related actions in the region. Specific coal lease applications and other matters for the RCT to consider include:

1. The Hilight Field LBA, a new lease application filed by Arkland Co. on October 7, 2005, is adjacent to both the Black Thunder and the Jacobs Ranch mines. Approximately 4590.19 acres and 588.2 million tons of Federal coal are involved. More details will be presented at the meeting. The RCT needs to consider the BLM processing schedule for the Hilight Field LBA.

2. The West Hilight Field LBA, a new lease application filed by Arkland Co. on January 17, 2006, is adjacent to the Black Thunder mine. Approximately 2,370 acres and 428 million tons of Federal coal are involved. More details will be presented at the meeting. The RCT needs to consider the BLM processing schedule for the West Hilight Field LBA.

3. The BLM received an application from Peabody Energy Company for a coal lease exchange for leased federal coal in the Gold Mine Draw Alluvial Valley Floor area. This exchange application was initially discussed at the RCT meeting held on April 29, 2005. The RCT will be updated on the progress of this exchange.

4. The BLM is doing a coal review study in the Powder River Basin. This study includes coal development forecasts, and an evaluation of cumulative effects. The results of this review will be used in the preparation of coal related NEPA documents in the Powder River coal region. The RCT will be updated on the progress and results of this study.

5. The RCT will hear a discussion from representatives of both Montana and Wyoming on coal conversion technologies and projects.

6. Update on BLM land use planning efforts in the Powder River Basin of Wyoming and Montana.

7. Other Coal Lease Applications and issues that may arise prior to the meeting. The RCT may generate recommendation(s) for any or all of these topics and other topics that may arise prior to the meeting date.

The meeting will serve as a forum for public discussion on Federal coal management issues of concern in the Powder River Basin region. Any party interested in providing comments or data related to the above pending applications, or any party proposing other issues to be considered by the RCT, may either do so in writing to the State Director (922), BLM Wyoming State Office, P.O. Box 1828, Cheyenne, WY 82003, no later than April 3, 2006, or by addressing the RCT with his/her concerns at the meeting on April 19, 2006.

The draft agenda for the meeting follows:

1. Introduction of RCT Members and guests.

2. Approval of the Minutes of the April 29, 2005 Regional Coal Team meeting held in Gillette, Wyoming.

3. Coal activity since last RCT meeting.

4. Industry Presentations on Lease Applications:—Arch Minerals, Hilight Field LBA

5. BLM presentation on Gold Mine Draw lease exchange.

6. BLM presentation on Powder River Basin coal review study.

7. Presentation by Wyoming and Montana on coal conversion projects.

8. BLM land use planning efforts.

9. Other pending coal actions and other discussion items that may arise

10. Discussion of the next meeting.

11. Adjourn.

Donald A. Simpson,
Acting Associate State Director.

[FR Doc. E6-1732 Filed 2-8-06; 8:45 am]

BILLING CODE 4310-22-P